DEPARTMENT OF COMMERCE

International Trade Administration

[A-201-845]

Agreement Suspending the Antidumping Duty Investigation on Sugar From Mexico: Final Results of the 2019-2020 Administrative Review

AGENCY: Enforcement and Compliance, International Trade Administration, Department of Commerce.

SUMMARY: The Department of Commerce (Commerce) continues to find that the respondents selected for individual examination, respectively, Impulsora Azucarera Del Trópico, S.A. de C.V. (Impulsora Del Tropico) and its affiliates and Ingenio Huixtla SA de C.V. (Ingenio Huixtla) and its affiliates (collectively, Respondents) were in compliance with the terms of the Agreement Suspending the Antidumping Duty Investigation on Sugar from Mexico, as amended (AD Agreement) during the period of review (POR) from January 1, 2020, through December 31, 2020. Commerce also continues to find that the AD Agreement met the statutory requirements under sections 734(c) and (d) of the Tariff Act of 1930, as amended (the Act) during the POR.

DATES: Applicable July 6, 2022.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Background

On January 7, 2022, Commerce published the Preliminary Results of this administrative review.¹ On February 14, 2022, Respondents filed a case brief.² On February 22, 2022, the American Sugar Coalition and its members (petitioners) ³ filed a rebuttal brief.⁴

¹ See Agreement Suspending the Antidumping Duty Investigation on Sugar from Mexico; Preliminary Results of the 2019-2020 Administrative Review, 87 FR 972 (January 7, 2022) (Preliminary Results), and accompanying Preliminary Issues and Decision Memorandum.

² See Respondents' Letter, “Case Brief,” dated February 14, 2022.

³ The members of the American Sugar Coalition are as follows: American Sugar Cane League; American Sugarbeet Growers Association; American Sugar Refining, Inc.; Florida Sugar Cane League; Rio Grande Valley Sugar Growers, Inc.; Sugar Cane Growers Cooperative of Florida; and the United States Beet Sugar Association.

⁴ See Petitioners' Letter, “Rebuttal Brief of the American Sugar Coalition and its Members,” dated February 22, 2022.

Scope of the AD Agreement

The product covered by this AD Agreement is raw and refined sugar of all polarimeter readings derived from sugar cane or sugar beets. Merchandise covered by this AD Agreement is typically imported under the following headings of the HTSUS: 1701.12.1000, 1701.12.5000, 1701.13.1000, 1701.13.5000, 1701.14.1020, 1701.14.1040, 1701.14.5000, 1701.91.1000, 1701.91.3000, 1701.99.1015, 1701.99.1017, 1701.99.1025, 1701.99.1050, 1701.99.5015, 1701.99.5017, 1701.99.5025, 1701.99.5050, and 1702.90.4000.⁵ The tariff classification is provided for convenience and customs purposes; however, the written description of the scope of this AD Agreement is dispositive.⁶

⁵ Prior to July 1, 2016, merchandise covered by the AD Agreement was classified in the HTSUS under subheading 1701.99.1010. Prior to January 1, 2020, merchandise covered by the AD Agreement was classified in the HTSUS under subheadings 1701.14.1000 and 1701.99.5010.

⁶ For a complete description of the Scope of the AD Agreement, see Memorandum, “Issues and Decision Memorandum for the Final Results of the 2019-2020 Administrative Review of the Agreement Suspending the Antidumping Duty Investigation on Sugar from Mexico, as Amended,” dated concurrently with, and hereby adopted by, this notice (Issues and Decision Memorandum).

Analysis

Commerce continues to find, based on record evidence, that Respondents, Impulsora Del Tropico and Ingenio Huixtla, were in compliance with the terms of the AD Agreement during the POR. We also determine that the AD Agreement met the statutory requirements under sections 734(c) and (d) of the Act, during the POR. However, during the review, Commerce identified issues related to recordkeeping and certain complex transactions referred to as “swap transactions.” We intend to consult with the Signatories to the AD Agreement under Section VII.E.2 (Operations Consultations) to ensure sufficient recordkeeping with respect to swap transactions. Such recordkeeping is necessary to demonstrate compliance with the AD Agreement and to ensure that any potential administrative challenges to effective monitoring are diminished.

The issues raised in the case and rebuttal briefs are addressed in the accompanying Issues and Decision Memorandum and business proprietary memorandum.⁷ The issues are identified in the Appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁷ See Issues and Decision Memorandum; see also Memorandum, “Final Analysis of Proprietary Information: Impulsora Azucarera Del Trópico and its Affiliates,” dated concurrently with the Issues and Decision Memorandum.

Notification Regarding Administrative Protective Order

This notice also serves as a reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results of review in accordance with sections 751(a)(l) and 777(i)(l) of the Act and 19 CFR 351.213 and 19 CFR 351.221(b)(5).

Dated: June 29, 2022.
Ryan Majerus,
Deputy Assistant Secretary for Policy & Negotiations, Enforcement and Compliance.

Appendix

Issues and Decision Memorandum

I. Summary

II. Background

III. Scope of the Agreement

IV. Discussion of the Issues

1. Designation of Certain Transactions as Home Market or U.S. Sales

2. Recordkeeping Issues Surrounding Swap Transactions and Consultations with the Signatories

V. Recommendation

[FR Doc. 2022-14281 Filed 7-5-22; 8:45 am]

BILLING CODE 3510-DS-P